U.S.-CHINA ECONOMIC AND SECURITY REVIEW COMMISSION

Notice of Open Meeting To Prepare Annual Report

Advisory Committee: U.S.-China Economic and Security Review Commission.

ACTION: Notice of open meeting to prepare Annual Report—August 23-24, 2006, Washington, DC.

SUMMARY: Notice is hereby given of a meeting of the U.S.-China Economic and Security Review Commission.

The Commission is mandated by Congress to investigate, assess, evaluate and report to Congress annually on the U.S.-China economic and security relationship. The mandate specifically charges the Commission to prepare an annual report to the Congress “regarding the national security implications and impact of the bilateral trade and economic relationship between the United States and the People's Republic of China * * * [that] shall include a full analysis, along with conclusions and recommendations for legislative and administrative actions * * *”

Purpose of Meeting: Pursuant to this mandate, the Commission will meet in Washington, DC on August 23 and 24, 2006, to consider drafts of material for its 2006 Annual Report that have been prepared for its consideration by the Commission staff, and to make modifications to those drafts that Commission members believe are needed.

Topics To Be Discussed: The Commissioners will be considering draft Report sections addressing the following topics:

• China's Internal Challenges and Their Impact on China's Actions Affecting Other Nations Including the United States.

• China's Military Modernization.

• The Effect of U.S. and Multilateral Export Controls on China's Military Modernization.

• The Impact of China's Industrial Expansion and Industrial Subsidies on U.S. and Other Markets.

• China's WTO Compliance.

• China's Impact on the U.S. Auto and Auto Parts Industries.

Date and Time: Wednesday and Thursday, August 23-24, 2006, 9:30 a.m. to 4:30 p.m. Eastern Daylight Time.

Place of Meeting: The meetings will occur in Conference Room 381 of the Hall of The States, 444 North Capitol Street, NW., Washington, DC 20001. Public seating is limited, and will be available on a “first-come, first-served” basis. Advance reservations are not required.

Required Accessibility Statement: The entirety of this Commission meeting will be open to the public.

For Further Information About This Meeting Contact: Kathy Michels, Associate Director, U.S.-China Economic and Security Review Commission, 444 North Capitol Street, NW., Suite 602, Washington, DC 20001; phone 202-624-1409; e-mail kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: August 11, 2006.
Kathleen J. Michels,
Associate Director, U.S.-China Economic and Security Review Commission.

[FR Doc. E6-13508 Filed 8-15-06; 8:45 am]

BILLING CODE 1137-00-P